DEPARTMENT OF LABOR

Occupational Safety and Health Administration

[Docket No. OSHA-2018-0007]

National Advisory Committee on Occupational Safety and Health (NACOSH); Request for Nominations

AGENCY: Occupational Safety and Health Administration (OSHA), Labor.

ACTION: Request for nominations to serve on NACOSH.

SUMMARY: The Secretary of Labor requests nominations for membership on NACOSH.

DATES: Nominations for NACOSH membership must be submitted (postmarked, sent or received) by December 24, 2018.

ADDRESSES: You may submit nominations for NACOSH, which must include the docket number for this Federal Register notice (Docket No. OSHA-2018-0007), by one of the following methods:

Electronically: You may submit nominations, including attachments, electronically at http://www.regulations.gov, which is the Federal eRulemaking Portal. Follow the online instructions for making submissions.

Facsimile: If your nomination, including attachments, does not exceed 10 pages, you may fax it to the OSHA Docket Office at (202) 693-1648.

Regular mail, express delivery, hand delivery, messenger/courier service (hard copy): You may submit your materials to the OSHA Docket Office, Docket No. OSHA-2018-0007, Room N-3653, U.S. Department of Labor, 200 Constitution Avenue NW, Washington, DC 20210; telephone (202) 693-2350 (TTY number is (877) 889-5627). OSHA's Docket Office accepts deliveries (hand deliveries, express mail, and messenger/courier service) from 10 a.m. to 3 p.m. ET.

FOR FURTHER INFORMATION CONTACT: For press inquiries: Mr. Francis Meilinger, Director, OSHA Office of Communications, U.S. Department of Labor; telephone: (202) 693-1999 (TTY 877-889-5627); email: meilinger.francis2@dol.gov.

For general information: Ms. Michelle Walker, Director, OSHA Technical Data Center, Directorate of Technical Support and Emergency Management; telephone: (202) 693-2350 (TTY 877-889-5627); email: walker.michelle@dol.gov.

SUPPLEMENTARY INFORMATION: The Secretary of Labor (Secretary) invites interested individuals to submit nominations for membership on NACOSH.

The Occupational Safety and Health Act of 1970 (OSH Act) (29 U.S.C. 651, 656) established NACOSH to advise, consult with, and make recommendations to the Secretary and the Secretary of Health and Human Services (HHS Secretary) on matters relating to the administration of the OSH Act. NACOSH is a continuing advisory committee of indefinite duration.

NACOSH operates in accordance with the Federal Advisory Committee Act (FACA) (5 U.S.C. App. 2), implementing regulations (41 CFR part 102-3), the OSH Act, and OSHA's regulations on NACOSH (29 CFR part 1912a).

NACOSH is comprised of 12 members, all of whom the Secretary appoints. The terms of six NACOSH members expired on December 31, 2017, and the remaining six NACOSH members' terms expire on December 31, 2018. OSHA invites nominations for all of the NACOSH positions:

• Four (4) public representatives;

• Two (2) management representative;

• Two (2) labor representative;

• Two (2) occupational safety professional representatives; and

• Two (2) occupational health professional representatives.

Pursuant to 29 CFR 1912a.2, the HHS Secretary designates both of the occupational health professional representatives and two of the four public representatives for the Secretary's consideration and appointment. OSHA will provide to HHS all nominations and supporting materials for the membership categories the HHS Secretary designates.

NACOSH members serve staggered terms, unless the member becomes unable to serve, resigns, ceases to be qualified to serve, or is removed by the Secretary. Accordingly, the Secretary will appoint six members to a two-year term and six to a three-year term. If a vacancy occurs before a term expires, the Secretary may appoint a new member who represents the same interest as the predecessor to serve the remainder of the unexpired term. The Committee shall meet at least two times a year (29 U.S.C. 656(a)(2)).

Any individual or organization may nominate one or more qualified persons for membership on NACOSH. Nominations must include:

• The nominee's name and contact information;

• The nominee's occupation or current position;

• The categories that the nominee is qualified to represent;

• The nominee's resume or curriculum vitae;

• Membership in relevant organizations and associations;

• A summary of the nominee's background, experience, and qualifications to serve on NACOSH;

• A list of articles or other documents the nominee has authored that indicates the nominee's experience in worker safety and health;

• A statement that the nominee has no conflicts of interest that would preclude membership on NACOSH; and

• A statement that the nominee is aware of the nomination and is willing to serve and regularly attend NACOSH meetings.

The Secretary will appoint NACOSH members on the basis of their experience and competence in the field of occupational safety and health (29 CFR 1912a.2). The information OSHA receives through this nomination process, in addition to other relevant sources of information, will assist the Secretary in appointing members to serve on NACOSH. In appointing NACOSH members, the Secretary will consider individuals nominated in response to this Federal Register notice, as well as other qualified individuals.

The U.S. Department of Labor (Department) is committed to equal opportunity in the workplace and seeks a broad-based and diverse NACOSH membership. The Department will conduct a public records check of nominees before their appointment using publicly available sources.

Public Participation, Submissions and Access to Public Record

You may submit nominations using one of the methods listed in the ADDRESSES section. Your submission must include the Agency name and docket number for this Federal Register notice (Docket No. OSHA-2018-0007). Due to security-related procedures, receipt of submissions by regular mail may experience significant delay. Please contact the OSHA Docket Office for information about security procedures for making submissions by hand, express delivery, or messenger/courier service.

OSHA posts submissions without change at http://www.regulations.gov. Therefore, OSHA cautions interested parties about submitting personal information, such as Social Security Numbers and birth dates. Although all submissions are listed in the http://www.regulations.gov index, some information (e.g., copyrighted material) is not publicly available to read or download through that website. All submissions, including copyrighted material, are available for inspection and copying, if permissible, at the OSHA Docket Office. Information on using http://www.regulations.gov to submit comments and access the docket is available on that website. Please contact the OSHA Docket Office for information about materials not available through that website and for assistance in using the internet to locate docket submissions.

Electronic copies of this Federal Register notice are available at http://www.regulations.gov. This notice, as well as news releases and other relevant information, also are available on OSHA's web page at http://www.osha.gov.

Authority and Signature

Loren Sweatt, Deputy Assistant of Labor for Occupational Safety and Health, directed the preparation of this notice under the authority granted by 29 U.S.C. 656; 5 U.S.C. App. 2; 29 CFR part 1912a; 41 CFR part 102-3; and Secretary of Labor's Order No. 1-2012 (77 FR 3912 (1/25/2012)) and 04-2018 (6/1/2018).

Signed at Washington, DC, on October 17, 2018.
Loren Sweatt,
Deputy Assistant Secretary of Labor for Occupational Safety and Health.

[FR Doc. 2018-23076 Filed 10-22-18; 8:45 am]

BILLING CODE 4510-26-P